DEPARTMENT OF ENERGY

Federal Energy Regulatory Commission

[Docket No. IC09-714-001]

Commission Information Collection Activities (FERC-714); Comment Request; Submitted for OMB Review

August 13, 2009.

AGENCY: Federal Energy Regulatory Commission, DOE.

ACTION: Notice.

SUMMARY: In compliance with the requirements of section 3507 of the Paperwork Reduction Act of 1995, 44 U.S.C. 3507, the Federal Energy Regulatory Commission (Commission or FERC) has submitted the information collection described below to the Office of Management and Budget (OMB) for review of the information collection requirements. Any interested person may file comments directly with OMB and should address a copy of those comments to the Commission as explained below. The Commission received no comments in response to the Federal Register notice (74FR 22913, 5/15/2009) and has made this notation in its submission to OMB.

DATES: Comments on the collection of information are due by September 21, 2009.

ADDRESSES: Address comments on the collection of information to the Office of Management and Budget, Office of Information and Regulatory Affairs, Attention: Federal Energy Regulatory Commission Desk Officer. Comments to OMB should be filed electronically, c/o oira_submission@omb.eop.gov and include OMB Control Number 1902-0140 as a point of reference. The Desk Officer may be reached by telephone at 202-395-4638.

A copy of the comments should also be sent to the Federal Energy Regulatory Commission and should refer to Docket No. IC09-714-001. Comments may be filed either electronically or in paper format. Those persons filing electronically do not need to make a paper filing. Documents filed electronically via the Internet must be prepared in an acceptable filing format and in compliance with the Federal Energy Regulatory Commission submission guidelines. Complete filing instructions and acceptable filing formats are available at http://www.ferc.gov/help/submission-guide/electronic-media.asp. To file the document electronically, access the Commission's website and click on Documents & Filing, E-Filing (http://www.ferc.gov/docs-filing/efiling.asp), and then follow the instructions for each screen. First time users will have to establish a user name and password. The Commission will send an automatic acknowledgement to the sender's e-mail address upon receipt of comments.

For paper filings, an original and 2 copies of the comments should be submitted to the Federal Energy Regulatory Commission, Secretary of the Commission, 888 First Street, NE., Washington, DC 20426, and should refer to Docket No. IC09-714-001.

All comments may be viewed, printed or downloaded remotely via the Internet through FERC's homepage using the “eLibrary” link. For user assistance, contact ferconlinesupport@ferc.gov or toll-free at (866) 208-3676 or for TTY, contact (202) 502-8659.

FOR FURTHER INFORMATION CONTACT: Ellen Brown may be reached by telephone at (202) 502-8663, by fax at (202) 273-0873, and by e-mail at ellen.brown@ferc.gov.

SUPPLEMENTARY INFORMATION: FERC-714 (Annual Electric Balancing Authority Area and Planning Area Report (formerly called “Annual Electric Control and Planning Area Report”), OMB No. 1902-0140) is used by the Commission to implement Sections 4, 202, 207, 210, 211-213, 304, 309 and 311 of the Federal Power Act (FPA) as amended (49 Stat. 838: 16 U.S.C. 791 a-825r), Section 3(4) of Public Utility Regulatory Policies Act of 1978, 26 U.S.C. 2602 and sections 1211, 1221, 1231, 1241 and 1242 of the Energy Policy Act of 2005 (Pub. L. 109-58) (119 Stat. 594). The filing requirements are found at 18 CFR 141.51. The information allows the Commission to analyze power system operations, to estimate the effect of changes in power system operations that result from the installation of a new generating unit or plant, transmission facilities, energy transfers between systems and/or new points of interconnections. The analyses also serve to correlate rates and charges, assess reliability and other operating attributes in regulatory proceedings, monitor market trends and behaviors, and determine the competitive impacts of proposed mergers, acquisitions and dispositions.

Action: The Commission is requesting a three-year extension of the current expiration date for the FERC-714, with no changes to the reporting requirements.

Burden Statement: There has been an administrative change in the burden estimate due to: (1) An informal, limited survey of respondents in order to obtain improved estimates of both the burden and cost, (2) a change in the number of filers resulting from the formation of regional transmission organizations (and other similar entities) encompassing numerous former Control Areas (Balancing Authority Areas), and (3) the switch to an all-electronic filing in 2007 (from a paper and diskette filing). Public reporting burden for this collection is estimated as follows.

FERC data collection | Number of respondents annually (1) | Number of responses per respondent (2) | Average burden hours per response (3) | Total annual burden hours (1)x(2)x(3)
FERC-714 | 215 | 1 | 87 ¹ | 18,705 ¹
[Note: These figures may not be exact, due to rounding.]

The total estimated annual cost burden ¹ to respondents is $885,155 (215 respondents × $4,117 per respondent).

¹ These figures are based on a limited survey of 8 respondents. The average estimated annual burden per respondent (and filing) is 87 hours.

Using the number of hours spent by each specific job title or level, the estimated annual staff cost was calculated based on the nationwide average annual salary for various levels of engineers, found in the Occupational Outlook Handbook (2008-09 Edition) [posted on the Bureau of Labor Statistics website at http://www.bls.gov/oco/ocos027.htm]. The estimated average annual staff cost for preparing the FERC-714 was $3,603. The respondents surveyed had additional costs of $514, on average per year. Therefore the total estimated average annual cost per respondent is $4,117.

The reporting burden includes the total time, effort, or financial resources expended to generate, maintain, retain, disclose, or provide the information including: (1) Reviewing instructions; (2) developing, acquiring, installing, and utilizing technology and systems for the purposes of collecting, validating, verifying, processing, maintaining, disclosing and providing information; (3) adjusting the existing ways to comply with any previously applicable instructions and requirements; (4) training personnel to respond to a collection of information; (5) searching data sources; (6) completing and reviewing the collection of information; and (7) transmitting, or otherwise disclosing the information.

The estimate of cost for respondents is based upon salaries for professional and clerical support, as well as direct and indirect overhead costs. Direct costs include all costs directly attributable to providing this information, such as administrative costs and the cost for information technology. Indirect or overhead costs are costs incurred by an organization in support of its mission. These costs apply to activities which benefit the whole organization rather than any one particular function or activity.

Comments are invited on: (1) Whether the proposed collections of information are necessary for the proper performance of the functions of the Commission, including whether the information will have practical utility; (2) the accuracy of the agency's estimates of the burden of the proposed collections of information, including the validity of the methodology and assumptions used; (3) ways to enhance the quality, utility and clarity of the information to be collected; and (4) ways to minimize the burden of the collection of information on those who are to respond, including the use of appropriate automated, electronic, mechanical, or other technological collection techniques or other forms of information technology, e.g. permitting electronic submission of responses.

Kimberly D. Bose,
Secretary.

[FR Doc. E9-19926 Filed 8-19-09; 8:45 am]

BILLING CODE 6717-01-P